Presidential Determination No. 2014-05 of December 16, 2013

Eligibility of the Gulf Cooperation Council To Receive Defense Articles and Defense Services Under the Foreign Assistance Act of 1961 and the Arms Export Control Act

Memorandum for the Secretary of State

Pursuant to the authority vested in me as President by the Constitution and the laws of the United States, including section 503(a) of the Foreign Assistance Act of 1961 and section 3(a)(1) of the Arms Export Control Act, I hereby find that the furnishing of defense articles and defense services to the Gulf Cooperation Council will strengthen the security of the United States and promote world peace.

You are authorized and directed to transmit this determination, and attached memorandum of justification, to the Congress and to arrange for the publication of this determination in the Federal Register.

THE WHITE HOUSE,

Washington, December 16, 2013.

[FR Doc. 2013-30984

Filed 12-23-13; 11:15 am]

Billing code 4710-10